DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). The Community Development Financial Institutions Fund (the “Fund”) within the Department of the Treasury is soliciting comments concerning its Bank Enterprise Award (BEA) Program Annual Survey. The BEA Program provides incentives to insured depository institutions to increase their support of CDFIs and their activities in economically distressed communities. The survey of BEA Awardee's will help the Fund to measure the effects of the BEA Program on insured depository institutions' community development activities.

DATES: Written comments should be received on or before April 9, 2001 to be assured of consideration.

ADDRESSES: Direct all comments to Matthew Josephs, Community Development Financial Institutions Fund, U.S. Department of the Treasury, 601 13th Street, NW., Suite 200 South, Washington, DC 20005, Facsimile Number (202) 622-7754.

FOR FURTHER INFORMATION CONTACT: The Community Development Financial Institutions Fund (the Fund), U.S. Department of Treasury, 601 13th Street, NW., Suite 200 South, Washington, DC 20005, (202) 622-8662 (this is not a toll free number) or visit the Fund's website at http://www.treas.gov/cdfi. Other information regarding the Fund and its programs also may be obtained through the Fund's website.

SUPPLEMENTARY INFORMATION: Title: Bank Enterprise Award Program Annual Survey.

OMB Number: 1559-0008.

Abstract: The purpose of the BEA Program is to assist in the revitalization of distressed urban and rural communities. Under the BEA Program, the Fund issues grant awards annually to insured depository institutions that have increased their level of investment in Community Development Financial Institutions and distressed communities between a six month assessment period and a six month baseline period. To help measure the effects of the BEA Program on the community development activities of insured depository institutions, the Fund is conducting a written survey of BEA Program Awardees.

Type of review: Extension.

Affected Public: Financial Institutions.

Estimated Number of Respondents: 180.

Estimated Annual Time Per Respondent: 30 minutes.

Estimated Total Annual Burden Hours: 90 hours.

Requests for Comments

Comments submitted in response to this notice will be summarized and/or included in the request for OMB approval. All comments will become a matter of public record. Comments are invited on: (a) whether the collection of information is necessary for the proper performance of the functions of the Fund, including whether the information shall have practical utility; (b) the accuracy of the Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 4703; 12 U.S.C. 4713; 12 U.S.C. 1834a; and E.O. 12866, § 6(a).

Dated: January 31, 2001.
Jeffrey C. Berg,
Acting Director, Community Development Financial Institutions Fund.

[FR Doc. 01-3037 Filed 2-7-01; 8:45 am]

BILLING CODE 4810-70-P